DEPARTMENT OF EDUCATION

[CFDA 84.060A]

Office of Elementary and Secondary Education, Department of Education; Indian Education Formula Grants to Local Education Agencies—Notice Inviting Applications for Fiscal Year (FY) 2006

Supplementary Information

Purpose of Program: The Indian Education Formula Grant program provides grants to support local educational agencies (LEAs) and other eligible entities described in this notice in their efforts to reform and improve elementary and secondary school programs that serve Indian students. The Department will fund programs designed to assist Indian students to meet the same challenging State academic content and student academic achievement standards used for all students. In addition, under section 7116 of the Elementary and Secondary Education Act of 1965, as amended (ESEA), the Secretary will, upon receipt of an acceptable plan for the integration of education and related services, authorize the entity receiving the funds under this program to consolidate, in accordance with the entity's plan, the funds for any Federal program exclusively serving Indian children, or the funds reserved under any Federal program to exclusively serve Indian children, that are awarded under a statutory or administrative formula to the entity, for the purposes of providing education and related services to Indian students. Instructions for submitting an integration of education and related services plan are included in the application package.

Eligible Applicants: LEAs, certain schools funded by the Bureau of Indian Affairs and Indian tribes under certain conditions, as prescribed by section 7112(c) of the ESEA.

Dates:

Applications Available: February 28, 2006.

Deadline for Transmittal of Applications: March 30, 2006.

Applications not meeting the deadline will not be considered for funding in the initial allocation of awards. However, if funds become available after the initial allocation of funds, applications not meeting the deadline may be considered for funding if the Secretary determines, under section 7118(d) of the ESEA, that reallocation of those funds to applicants filing after the deadline would best assist in advancing the purposes of the program. However, the amount and length of an individual award, if any, may be less than the applicant would have received had the application been submitted on time.

Deadline for Intergovernmental Review: May 30, 2006.

Available Funds: $95,331,060.

Estimated Range of Awards: $4,000 to $2,215,000.

Estimated Average Size of Awards: $79,642.

Estimated Number of Awards: 1,197.

Note: The Department is not bound by any estimates in this notice.

Project Period: 12 months.

Applicable Regulations: The Education Department General Administrative Regulations (EDGAR) in 34 CFR Parts 75, 77, 79, 80, 81, 82, 84, 85, 86, 97, 98, and 99.

Note: The regulations in 34 CFR part 79 apply to all applicants except federally recognized Indian tribes.

Performance Measures: The Secretary has established the following key performance measures for assessing the effectiveness of the Formula Grants to Local Educational Agency program: (1) The percentage of American Indian and Alaska Native students in grades 4 and 8 who are at or above the basic level in reading on the National Assessment of Educational Progress (NAEP); and (2) the percentage of American Indian and Alaska Native students in grades 4 and 8 who are at or above the basic level in mathematics on NAEP.

For Applications or Further Information Contact: Lana Shaughnessy, U.S. Department of Education, 400 Maryland Avenue, SW., room 5C152, Washington, DC 20202-6335. Telephone: (202) 260-3774. An electronic version of the application is available at: http://www.ed.gov/about/offices/list/oese/oie/index.html.

Individuals who use a telecommunications device for the deaf (TDD) may call the Federal Relay Service (FRS) at 1-800-877-8339.

Individuals with disabilities may obtain a copy of the application package or a copy of this document in an alternative format (e.g., Braille, large print, audiotape, or computer diskette) on request to the person listed in this section.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7421 et seq.

Dated: February 23, 2006.
Henry L. Johnson,
Assistant Secretary for Elementary and Secondary Education.

[FR Doc. 06-1865 Filed 2-27-06; 8:45 am]

BILLING CODE 4000-01-P